SOCIAL SECURITY ADMINISTRATION

Agency Information Collection Activities: Comment Request

The Social Security Administration (SSA) publishes a list of information collection packages that will require clearance by the Office of Management and Budget (OMB) in compliance with Public Law (Pub. L.) 104-13, the Paperwork Reduction Act of 1995, effective October 1, 1995. The information collection package in this notice is for a revision to an OMB-approved information collection.

SSA is soliciting comments on the accuracy of the Agency's burden estimate; the need for the information; its practical utility; ways to enhance its quality, utility and clarity; and how to minimize the burden on respondents, including the use of automated collection techniques or other forms of information technology. Submit written comments and recommendations on the information collection to the SSA Reports Clearance Officer. Mail, fax or email the information to the address and fax number listed below:

(OMB) Office of Management and Budget, Attn: Desk Officer for SSA, Fax: 202-395-6974, E-mail address: OIRA_Submission@omb.eop.gov.

(SSA) Social Security Administration, DCBFM, Attn: Reports Clearance Officer, 1333 Annex Building, 6401 Security Blvd., Baltimore, MD 21235, Fax: 410-965-6400, E-mail address: OPLM.RCO@ssa.gov.

We are submitting the information collection below to OMB for clearance. Your comments on the information collection will be most useful if you send them to OMB and SSA within 30 days from the date of this publication. You can obtain a copy of the OMB clearance package by calling the SSA Reports Clearance Officer at 410-965-0454, or by writing to OPLM.RCO@ssa.gov.

Medicare Modernization Act Outreach Mailer—20 CFR 418—0960-NEW. To: (1) Promote awareness of the Medicare Part D subsidy program; and (2) encourage potentially eligible Medicare beneficiaries to complete Form SSA-1020 (OMB No. 0960-0696, the Application for Help with Medicare Prescription Drug Plan Costs), SSA plans to use a new outreach brochure including a mailer. Pharmacies, doctors' offices, and medical clinics will display and distribute copies of the brochure incorporating a mailer to encourage eligible Medicare beneficiaries to request and complete Form SSA-1020. The brochure will include an insert beneficiaries complete to request Form SSA-1020 from SSA. SSA will make follow-up phone calls to beneficiaries who use the mailer to request an SSA-1020 but do not submit it to the Agency. The respondents are Medicare beneficiaries who: (1) Are potentially eligible for Part D subsidy benefits; and (2) request a copy of Form SSA-1020 using the brochure insert.

Type of Request: New information collection.

| Number of respondents | Frequency of response | Average burden per response (minutes) | Estimated annual burden (hours)
Mailer insert | 75,000 | 1 | 1 | 1,250.
Follow-up phone calls | 30,000 | 1 | 1 | 500.
Totals | 105,000 |  |  | 1,750.

Dated: May 27, 2008.
Elizabeth A. Davidson,
Reports Clearance Officer, Social Security Administration.

[FR Doc. E8-12113 Filed 5-30-08; 8:45 am]

BILLING CODE 4191-02-P